DEPARTMENT OF THE INTERIOR

National Park Service

Advisory Board Meeting

AGENCY: National Park Service, Department of the Interior.

ACTION: Notice of meeting.

SUMMARY: Notice is hereby given in accordance with the Federal Advisory Commission Act and 36 CFR part 65 that a meeting of the Landmarks Committee of the National Park System Advisory Board will be held beginning at 1 p.m. on April 20, 2005 and at the following location. The meeting will continue beginning at 9 a.m. on April 21.

DATES: April 20-21, 2005.

LOCATION: The Charles Sumner School, 1201 Seventeenth Street, NW., Washington, DC 20036.

FOR FURTHER INFORMATION CONTACT: Patricia Henry, National Historic Landmarks Survey, National Register, History, and Education, National Park Service; 1849 C Street, NW. (2280); Washington, DC 20240; Telephone (202) 354-2216.

SUPPLEMENTARY INFORMATION: The purpose of the meeting of the Landmarks Committee of the National Park System Advisory Board is to evaluate nominations of historic properties in order to advise the National Park System Advisory Board of the qualifications of the property being proposed for National Historic Landmark (NHL) designation, and to recommend to the National Park System Advisory Board at their subsequent meeting, the date and place of which have not been set, if the Landmarks Committee finds that each property meets the criteria for designation as a National Historic Landmark. The Committee also makes recommendations to the National Park System Advisory Board regarding amendments to existing designations, and proposals for withdrawal of designation. The members of the National Landmarks Committee are:

Mr. Larry E. Rivers, Ph.D., Chair;

Mr. Ian W. Brown, Ph.D.;

Ms. Mary Werner DeNadai, FAIA;

Ms. Alferdteen Brown Harrison, Ph.D.;

Mr. Bernard L. Herman, Ph.D.;

Mr. E.L. Roy Hunt, J.D., Professor Emeritus;

Mr. Ronald James;

Ms. Paula J. Johnson;

Mr. William J. Murtagh, Ph.D.;

Mr. William D. Seale, Ph.D.

The meeting will be open to the public. Pursuant to 36 CFR part 65, any member of the public may file for consideration by the National Park System Advisory Board and its Landmarks Committee written comments concerning the National Historic Landmarks nominations, amendments to existing designations, or proposals for withdrawal of designation.

Comments should be submitted to Carol D. Shull, Chief, National Historic Landmarks Survey and Keeper of the National Register of Historic Places; National Register, History, and Education; National Park Service; 1849 C Street, NW., (2280); Washington, DC 20240.

The National Park System Advisory Board and its Landmarks Committee will consider the following nominations and proposals for withdrawal of designation:

Nominations

Alabama

• Sixteenth Street Baptist Church, Birmingham, AL

California

• Tule Lake Segregation Center, Newell, Modoc County, CA

Colorado

• Granada Relocation Center, Granada, CO

Florida

• Miami Circle at Brickell Point, Miami, FL

Illinois

• Farnsworth House, Kendall County, IL

Indiana

• Madison Historic District, Madison, IN

Iowa

• Reverend George B. Hitchcock House, Cass County, IA

Maine

• Portland Observatory, Portland, ME

Massachusetts

• William J. Rotch Gothic Cottage, New Bedford, MA

Michigan

• Ford Piquette Avenue Plant, Detroit, MI

New Jersey

• Navesink Light Station, Highlands, NJ

New York

• Priscilla, West Sayville, NY

Oregon

• Kam Hah Chung Company Building, John Day, OR

Tennessee

• Graceland (Elvis Presley Home), Memphis, TN

Wyoming

• Murie Ranch Historic District, Teton County, WY

Proposals for Withdrawal of Designation:

Illinois

• Grant Park Stadium (Soldier Field), Chicago, IL

Maryland

• Resurrection Manor, St. Mary's County, MD

Dated: February 25, 2005.
Carol D. Shull,
Chief, National Historic Landmarks Survey and Keeper of the National Register of Historic Places; National Park Service, Washington, DC.

[FR Doc. 05-5115 Filed 3-15-05; 8:45 am]

BILLING CODE 4312-51-P